DEPARTMENT OF COMMERCE

International Trade Administration

[A-570-890]

Wooden Bedroom Furniture From the People's Republic of China: Preliminary Rescission of 2019 Antidumping Duty New Shipper Review

AGENCY: Enforcement and Compliance, International Trade Administration, Department of Commerce.

SUMMARY: The Department of Commerce (Commerce) preliminarily determines that Kunshan Jujia Decoration Design Co., Ltd. (Jujia) did not make a bona fide sale for antidumping duty purposes during the period of review (POR) January 1, 2019 through December 31, 2019. Therefore, Commerce is preliminarily rescinding this review. Interested parties are invited to comment on the preliminary results of the review.

DATES: Applicable August 20, 2020.

FOR FURTHER INFORMATION CONTACT: Elizabeth Bremer, AD/CVD Operations, Office IV, Enforcement and Compliance, International Trade Administration, Department of Commerce, 1401 Constitution Avenue NW, Washington, DC 20230; telephone: (202) 482-4987.

SUPPLEMENTARY INFORMATION:

Background

On February 27, 2020, Commerce published a notice of initiation of a new shipper review of the antidumping duty order on wooden bedroom furniture from the People's Republic of China (China).¹ Commerce subsequently issued an antidumping duty questionnaire, and supplemental questionnaires, to Jujia and received timely responses thereto. For additional background, see the Preliminary Decision Memorandum.²

¹ See Wooden Bedroom Furniture From the People's Republic of China: Initiation of Antidumping Duty New Shipper Review, 85 FR 11342 (February 27, 2020).

² See Memorandum, “Decision Memorandum for the Preliminary Rescission of the 2019 Antidumping Duty New Shipper Review of Wooden Bedroom Furniture from the People's Republic of China, dated concurrently with, and hereby adopted by, this notice (Preliminary Decision Memorandum).

Scope of the Order

The product covered by the order is wooden bedroom furniture, subject to certain exceptions. Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 and 7009.92.5000. Although the HTSUS subheadings are provided for convenience and custom purposes, the written product description in the order remains dispositive. For a complete description of the scope of the order, see the Preliminary Decision Memorandum.

Methodology

Commerce is conducting this review in accordance with section 75l(a)(2)(B) of the Tariff Act of 1930, as amended (the Act) and 19 CFR 351.214. For a full description of the methodology underlying our conclusions, see the Preliminary Decision Memorandum, which is hereby adopted by this notice. A list of sections in the Preliminary Decision Memorandum is attached in the Appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed Preliminary Decision Memorandum and the electronic version of the Preliminary Decision Memorandum are identical in content.

Preliminary Rescission of the Antidumping New Shipper Review

As discussed in the Bona Fide Sales Analysis Memorandum,³ Commerce preliminarily finds that the sale made by Jujia is not a bona fide sale. Commerce reached this conclusion based on the totality of the circumstances surrounding the reported sale, including, among other things, the sales price and quantity. Because Jujia made no bona fide sales during the POR, we are preliminarily rescinding this review.⁴ Because the factual information used in our bona fides analysis of Jujia's sale involves business proprietary information, a full discussion of our analysis is in the proprietary Bona Fide Sales Analysis Memorandum.

³ See Memorandum, “2019 Antidumping Duty New Shipper Review of Wooden Bedroom Furniture from the People's Republic of China: Preliminary Bona Fide Sales Analysis for Kunshan Jujia Decoration Design Co., Ltd.,” dated concurrently with, and hereby adopted by, this notice (Bona Fide Sales Analysis Memorandum).

⁴ See 19 CFR 351.213(d)(3).

Public Comment

Interested parties are invited to comment on the preliminary results of this review.

Pursuant to 19 CFR 351.309(c)(1)(ii), interested parties may submit case briefs no later than 30 days after the date of publication of this notice. Rebuttal briefs, limited to issues raised in the case briefs, may be filed no later than seven days after the time limit for filing case briefs.⁵ Parties who submit case briefs or rebuttal briefs in this proceeding are requested to submit with each brief: (1) A statement of the issue, (2) a brief summary of the argument, and (3) a table of authorities.⁶ Executive summaries should be limited to five pages total, including footnotes.⁷ All submissions, with limited exceptions, must be filed electronically using ACCESS.⁸ Electronically filed comments must be received successfully in its entirety by Commerce's electronic records system, ACCESS, by 5 p.m. Eastern Time (ET) on the due date. Note that Commerce has temporarily modified certain of its requirements for serving documents containing business proprietary information, until further notice.⁹

⁵ See 19 CFR 351.309(d)(1); see also Temporary Rule Modifying AD/CVD Service Requirements Due to COVID- 19; Extension of Effective Period, 85 FR 41363 (July 10, 2020) (Temporary Rule).

⁶ See 19 CFR 351.309(c)(2) and (d)(2).

⁷ Id.

⁸ See 19 CFR 351.303.

⁹ See Temporary Rule.

Pursuant to 19 CFR 351.310(c), any interested party may request a hearing within 30 days of the publication of this notice in the Federal Register. If a hearing is requested, Commerce will notify interested parties of the hearing date and time to be determined. Interested parties who wish to request a hearing must submit a written request to the Assistant Secretary for Enforcement and Compliance, filed electronically via ACCESS within 30 days after the date of publication of this notice. Requests should contain: (1) The party's name, address, and telephone number; (2) the number of hearing participants; and (3) a list of the issues to be discussed in the hearing. Issues raised in the hearing will be limited to those raised in the respective case and rebuttal briefs.

Commerce intends to issue the final results of this review, which will include the results of its analysis of issues raised in any briefs and rebuttal briefs received, no later than 90 days after the date these preliminary results of review are issued pursuant to section 751(a)(2)(B) of the Act.

Assessment Rates

If Commerce issues a final rescission of this review, it will instruct U.S. Customs and Border Protection (CBP) to liquidate the relevant entry at the China-wide rate.

If Commerce does not proceed to a final rescission of this new shipper review, pursuant to 19 CFR 351.202(b)(1), it will calculate an importer-specific assessment rate based on the final results of this review. However, pursuant to Commerce's refinement to its assessment practice in non-market economy cases, for entries that were not reported in the U.S. sales database submitted by Jujia, Commerce will instruct CBP to liquidate such entries at the China-wide rate.¹⁰

¹⁰ See Non-Market Economy Antidumping Proceedings: Assessment of Antidumping Duties, 76 FR 65694, 65694-95 (October 24, 2011).

Cash Deposit Requirements

If Commerce proceeds to a final rescission of this review, the cash deposit rate will continue to be the China-wide rate for Jujia because Commerce will not have determined an individual margin of dumping for Jujia. If Commerce determines an individual margin of dumping for Jujia, it will instruct CBP to collect cash deposits, effective upon the publication of the final results of review, equal to the calculated dumping margin.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

We are issuing and publishing these results in accordance with sections 751(a)(2)(B) and 777(i)(1) of the Act.

Dated: August 14, 2020.
Joseph A. Laroski Jr.,
Deputy Assistant Secretary for Policy and Negotiations.

Appendix

List of Issues Discussed in the Preliminary Decision Memorandum

I. Summary

II. Background

III. Scope of the Order

IV. Discussion of the Methodology

V. Conclusion

[FR Doc. 2020-18245 Filed 8-19-20; 8:45 am]

BILLING CODE 3510-DS-P